DEPARTMENT OF TRANSPORTATION

Pipeline and Hazardous Materials Safety Administration

49 CFR Parts 192 and 195

[Docket No. PHMSA-2025-0119]

RIN 2137-AF87

Pipeline Safety: Standards Update—API Spec 6D

AGENCY: Pipeline and Hazardous Materials Safety Administration (PHMSA), Department of Transportation (DOT).

ACTION: Direct final rule (DFR); confirmation of effective date.

SUMMARY: PHMSA is confirming the effective date for the DFR that appeared in the Federal Register on July 1, 2025. The DFR amended PHMSA's regulations at 49 CFR parts 192 and 195 to incorporate by reference the updated industry standard American Petroleum Institute (API) Specification 6D, “Specification for Valves.”

DATES: PHMSA confirms the effective date of January 1, 2026, for the DFR that appeared in the Federal Register on July 1, 2025 (90 FR 28101).

FOR FURTHER INFORMATION CONTACT: Brianna Wilson, Transportation Specialist, by phone at 771-215-0969 or email at brianna.wilson@dot.gov.

SUPPLEMENTARY INFORMATION: On July 1, 2025 (90 FR 28101), PHMSA published a DFR amending its regulations at 49 CFR parts 192 and 195 to incorporate by reference the 25th edition of API Specification 6D, “Specification for Valves” (issued November 1, 2021). References to the 25th edition of the standard will replace existing references in 49 CFR 192.145(a) and 195.116(d) to API Specification Spec 6D, “Specification for Pipeline and Piping Valves,” 24th edition, August 2014, including Errata 1 through 10 (October 2014 through July 2021), Addendum 1 (March 2015), and Addendum 2 (June 2016).

PHMSA issued the DFR under the procedures set forth at 49 CFR 190.339. In accordance with those provisions, PHMSA stated in the DFR that if no adverse comments were received, the DFR would become final and effective on January 1, 2026. PHMSA did not receive any comments that warranted withdrawal of the DFR; therefore, this rule will become effective as scheduled.

Issued in Washington, DC, on September 30, 2025, under the authority designated in 49 CFR 1.97.
Benjamin D. Kochman,
Deputy Administrator.

[FR Doc. 2025-19341 Filed 10-1-25; 8:45 am]

BILLING CODE 4910-60-P